DEPARTMENT OF COMMERCE

International Trade Administration

[A-570-879]

Notice of Amended Final Determination of Sales at Less Than Fair Value: Polyvinyl Alcohol From the People's Republic of China

AGENCY: Import Administration, International Trade Administration, Department of Commerce.

EFFECTIVE DATE: September 2, 2003.

FOR FURTHER INFORMATION CONTACT: Elizabeth Eastwood or Alice Gibbons, AD/CVD Enforcement Group I, Office 2, Import Administration, International Trade Administration, U.S. Department of Commerce, 14th Street and Constitution Avenue, NW., Washington, DC 20230; telephone (202) 482-3874 or (202) 482-0498, respectively.

Amendment to Final Determination

In accordance with sections 735(a) and 777(i)(1) of the Tariff Act of 1930, as amended, (the Act), on August 11, 2003, the Department published its notice of final determination of sales at less than fair value (LTFV) in the investigation of polyvinyl alcohol (PVA) from the People's Republic of China (PRC). See Notice of Final Determination of Sales at Less Than Fair Value: Polyvinyl Alcohol From the People's Republic of China, 68 FR 47538 (Aug. 11, 2003). On August 11, 2003, we received an allegation, timely filed pursuant to 19 CFR 351.224(c)(2), from the respondent, Sinopec Sichuan Vinylon Group (SVW), that the Department had made a ministerial error in its final determination. We did not receive comments on SVW's submission from the petitioners in this investigation, Celanese Chemicals Ltd. and E.I. Dupont de Nemours & Company. After analyzing SVW's submission, we have determined, in accordance with 19 CFR 351.224(e), that we made a ministerial error in our calculation of total freight expenses for certain sales with CIF Chongqing delivery terms in the margin calculations performed for the final determination.

Further, in reviewing the calculation of SVW's freight expenses for these CIF Chongqing transactions, we discovered two other clerical errors in the margin program directly related to the one identified by the respondent. First, we discovered that the error in total freight expenses discussed above also relates to SVW's FOB Chongqing sales. Second, in determining which inland freight expenses were applicable to SVW's CIF Chongqing sales, we discovered that we had incorrectly recalculated marine insurance expenses. Correcting these errors resulted in a revised margin for SVW.

For a detailed discussion of the ministerial errors noted above, as well as the Department's analysis, see the August 25, 2003, memorandum to Jeffrey May from the Team entitled “Ministerial Error Allegation in the Final Determination of the Antidumping Duty Investigation on Polyvinyl Alcohol from the People's Republic of China.”

Therefore, in accordance with 19 CFR 351.224(e), we are amending the final determination of sales at LTFV in the antidumping duty investigation of PVA from the PRC. The revised dumping margins are as follows:

Manufacturer/exporter | Original final margin (percent) | Amended final margin (percent)
Sinopec Sichuan Vinylon Works | 7.40 | 6.91
PRC-wide | 97.86 | 97.86

Continuation of Suspension of Liquidation

In accordance with section 735(c)(1)(B) of the Act, we are directing the U.S. Bureau of Customs and Border Protection (BCBP) to continue to suspend liquidation of all entries of PVA from the PRC. The BCBP shall require a cash deposit or the posting of a bond equal to the estimated amount by which the normal value exceeds the U.S. price as indicated in the chart above. These instructions suspending liquidation will remain in effect until further notice.

This determination is issued and published pursuant to sections 735(d) and 777(i)(1) of the Act.

Dated: August 26, 2003.
James J. Jochum,
Assistant Secretary for Import Administration.

[FR Doc. 03-22346 Filed 8-29-03; 8:45 am]

BILLING CODE 3510-DS-P